DEPARTMENT OF VETERANS AFFAIRS

Cost-Based and Inter-Agency Billing Rates for Medical Care or Services Provided by the Department of Veterans Affairs for FY 2020

ADDRESSES: The Department of Veterans Affairs.

ACTION: Notice.

SUMMARY: This document updates the Cost-Based and Inter-Agency billing rates for medical care or services provided by the Department of Veterans Affairs (VA) furnished in certain circumstances.

DATES: The rates set forth herein are effective October 1, 2019.

FOR FURTHER INFORMATION CONTACT: Romona Greene, Office of Community Care, Revenue Operations, Payer Relations and Services, Rates and Charges (10D1C1), Veterans Health Administration (VHA), Department of Veterans Affairs, 810 Vermont Avenue NW, Washington, DC 20420, (202) 382-2521. (This is not a toll free number.)

SUPPLEMENTARY INFORMATION: VA's methodology for computing Cost-Based and Inter-Agency rates for medical care or services provided by VA is set forth in 38 Code of Federal Regulations 17.102(h). Two sets of rates are obtained by applying this methodology, Cost-Based and Inter-Agency.

Cost-Based rates apply to medical care and services that are provided by VA under § 17.102(a), (b), (d) and (g), respectively, in the following circumstances:

• In error or based on tentative eligibility,

• In a medical emergency,

• To pensioners of allied nations, and

• For research purposes in circumstances under which the medical care appropriation shall be reimbursed from the research appropriation.

Inter-Agency rates apply to medical care and services that are provided by VA under § 17.102(c) and (f), respectively, in the following circumstances when the care or services provided are not covered by any applicable sharing agreement in accordance with § 17.102(e):

• To beneficiaries of the Department of Defense or other Federal agencies; and

• To military retirees with chronic disability.

The calculations for the Cost-Based and Inter-Agency rates are the same with two exceptions. Inter-Agency rates are all-inclusive and are not broken down into three components (i.e., Physician; Ancillary; and Nursing, Room and Board), and do not include standard fringe benefit costs that cover Government employee retirement, disability costs, and return on fixed assets. When VA pays for medical care or services from a non-VA source under circumstances in which the Cost-Based or Inter-Agency rates would apply if the care or services had been provided by VA, the charge for such care or services will be the actual amount paid by VA for the care or services. Inpatient charges will be at the per diem rates shown for the type of bed section or discrete treatment unit providing the care.

The following table depicts the Cost-Based and Inter-Agency rates that are effective October 1, 2019 and will remain in effect until the next fiscal year Federal Register update. These rates supersede those established by the Federal Register notice published on August 28, 2018, at 83 FR 43958.

| Cost-based rates | Inter-agency rates
A. Hospital Care per inpatient day:
General Medicine:
All Inclusive Rate | $4,301 | $4,156
Physician | 515 |
Ancillary | 1,121 |
Nursing Room and Board | 2,665 |
Neurology:
All Inclusive Rate | 4,232 | 4,086
Physician | 620 |
Ancillary | 1,117 |
Nursing Room and Board | 2,495 |
Rehabilitation Medicine:
All Inclusive Rate | 2,910 | 2,803
Physician | 331 |
Ancillary | 889 |
Nursing Room and Board | 1,690 |
Blind Rehabilitation:
All Inclusive Rate | 1,995 | 1,920
Physician | 161 |
Ancillary | 991 |
Nursing Room and Board | 843 |
Spinal Cord Injury:
All Inclusive Rate | 2,636 | 2,540
Physician | 327 |
Ancillary | 663 |
Nursing Room and Board | 1,646 |
Surgery:
All Inclusive Rate | 7,526 | 7,272
Physician | 829 |
Ancillary | 2,283 |
Nursing Room and Board | 4,414 |
General Psychiatry:
All Inclusive Rate | 2,174 | 2,091
Physician | 205 |
Ancillary | 342 |
Nursing Room and Board | 1,627 |
Substance Abuse (Alcohol and Drug Treatment):
All Inclusive Rate | 2,232 | 2,147
Physician | 213 |
Ancillary | 516 |
Nursing Room and Board | 1,503 |
Psychosocial Residential Rehabilitation Program:
All Inclusive Rate | 826 | 797
Physician | 52 |
Ancillary | 87 |
Nursing Room and Board | 687 |
Intermediate Medicine:
All Inclusive Rate | 3,301 | 3,182
Physician | 162 |
Ancillary | 484 |
Nursing Room and Board | 2,655 |
Poly-trauma Inpatient:
All Inclusive Rate | 3,223 | 3,097
Physician | 366 |
Ancillary | 985 |
Nursing Room and Board | 1,872 |
B. Nursing Home Care, Per Day:
All Inclusive Rate | 1,361 | 1,311
Physician | 42 |
Ancillary | 184 |
Nursing Room and Board | 1135 |
C. Outpatient Medical Treatments:
Outpatient Visit (to include Ineligible Emergency Dental Care) | 389 | 376
Outpatient Physical Medicine & Rehabilitation Service Visit | 238 | 228
Outpatient Poly-trauma/Traumatic Brain Injury | 671 | 649
Note: Outpatient Prescriptions will be billed at Drug Cost plus Administrative Fee.

Signing Authority

The Secretary of Veterans Affairs, or designee, approved this document and authorized the undersigned to sign and submit the document to the Office of the Federal Register for publication electronically as an official document of the Department of Veterans Affairs. Robert L. Wilkie, Secretary, Department of Veterans Affairs, approved this document on September 26, 2019, for publication.

Dated: September 26, 2019.
Jeffrey M. Martin,
Assistant Director, Office of Regulation Policy & Management, Office of the Secretary, Department of Veterans Affairs.

[FR Doc. 2019-21330 Filed 9-27-19; 8:45 am]

BILLING CODE 8320-01-P